DEPARTMENT OF THE INTERIOR

National Park Service

[NPS-WAS-NAGPRA-NPS0025139; PPWOCRADN0-PCU00RP14.R50000]

Notice of Inventory Completion: California Department of Transportation, Sacramento, CA, and California State University, Sacramento, CA; Correction

AGENCY: National Park Service, Interior.

ACTION: Notice; correction.

SUMMARY: The California Department of Transportation (Caltrans) and California State University, Sacramento, have corrected an inventory of associated funerary objects, published in a Notice of Inventory Completion in the Federal Register on March 15, 2011. This notice corrects the number of associated funerary objects. Lineal descendants or representatives of any Indian Tribe or Native Hawaiian organization not identified in this notice that wish to request transfer of control of these associated funerary objects should submit a written request to Caltrans. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to Caltrans at the address in this notice by May 4, 2018.

ADDRESSES: Sarah Allred, Native American Cultural Studies Branch Chief, California Department of Transportation, 1120 North Street, MS-27, Sacramento, CA 95814, telephone (916) 653-0013, email Sarah.Allred@dot.ca.gov.

SUPPLEMENTARY INFORMATION: Notice is here given in accordance with the Native American Graves Protection and Repatriation Act (NAGPRA), 25 U.S.C. 3003, of the correction of an inventory of associated funerary objects under the control of the California Department of Transportation. The associated funerary objects were removed from site CA-SJO-91, on private property, in San Joaquin County, CA.

This notice is published as part of the National Park Service's administrative responsibilities under NAGPRA, 25 U.S.C. 3003(d)(3). The determinations in this notice are the sole responsibility of the museum, institution, or Federal agency that has control of the Native American associated funerary objects. The National Park Service is not responsible for the determinations in this notice.

This notice corrects the number of associated funerary objects published in a Notice of Inventory Completion in the Federal Register (76 FR 14055, March 15, 2011). Three associated funerary objects originally listed as missing have since been found. Transfer of control of the items in this correction notice has not occurred.

Correction

In the Federal Register (76 FR 14055, March 15, 2011), column 2, full paragraph 3, sentences 4 and 5, are corrected by substituting the following sentences:

The 4,670 associated funerary objects are 3,967 beads, 16 bifaces, 4 pieces of charcoal, 1 charmstone fragment, 1 silicate core, 2 lots of debitage, 490 faunal bones, 5 flake tools, 61 tule mat impressions, 20 modified bones, 1 modified shell, 2 modified stones, 20 pieces of ochre, 14 ornaments, 3 pestles, 20 projectile points, 35 quartz crystals and pebbles, 6 soil samples, and 2 whistles. In addition, there are 184 missing associated funerary objects (156 beads, 1 piece of charcoal, 1 igneous core, 12 lots of debitage, 5 faunal bones, 1 flake tool, 1 modified bone, 1 quartz rock, 1 steatite ring, and 5 bone whistles).

In the Federal Register (76 FR 14056, March 15, 2011), column 1, full paragraph 2, sentence 2 is corrected by substituting the following sentence:

Officials of California State University, Sacramento, and Caltrans also have determined, pursuant to 25 U.S.C. 3001(3)(A), that the 4,670 objects described above are reasonably believed to have been placed with or near individual human remains at the time of death or later as part of the death rite or ceremony.

Additional Requestors and Disposition

Lineal descendants or representatives of any Indian Tribe or Native Hawaiian organization not identified in this notice that wish to request transfer of control of these associated funerary objects should submit a written request with information in support of the request to Sarah Allred, Native American Cultural Studies Branch Chief, California Department of Transportation, 1120 North Street, MS-27, Sacramento, CA 95814, telephone (916) 653-0013, email Sarah.Allred@dot.ca.gov, by May 4, 2018. After that date, if no additional requestors have come forward, transfer of control of the associated funerary objects to the Buena Vista Rancheria of Me-Wuk Indians of California; California Valley Miwok Tribe, California; Chicken Ranch Rancheria of Me-Wuk Indians of California; Ione Band of Miwok Indians of California; Jackson Band of Miwuk Indians (previously listed as the Jackson Rancheria of Me-Wuk Indians of California); Picayune Rancheria of Chukchansi Indians of California; Santa Rosa Indian Community of the Santa Rosa Rancheria, California; Shingle Springs Band of Miwok Indians, Shingle Springs Rancheria (Verona Tract), California; Table Mountain Rancheria (previously listed as the Table Mountain Rancheria of California); Tule River Indian Tribe of the Tule River Reservation, California; Tuolumne Band of Me-Wuk Indians of the Tuolumne Rancheria of California; United Auburn Indian Community of the Auburn Rancheria of California; and the Wilton Rancheria, California, (“The Tribes”), may proceed.

California State University, Sacramento, is responsible for notifying The Tribes, as well as three non-Federally recognized Indian groups, the Northern Valley Yokuts, Southern Sierra Miwoks of California, and Tubatulabals of Kern Valley, that this notice has been published.

Dated: February 28, 2018.
Melanie O'Brian,
Manager, National NAGPRA Program.

[FR Doc. 2018-06830 Filed 4-3-18; 8:45 am]

BILLING CODE 4312-52-P